FEDERAL RETIREMENT THRIFT INVESTMENT BOARD

Sunshine Act Meeting

TIME AND DATE: 10:00 a.m. (EST) February 12, 2001.

PLACE: 4th Floor, Conference Room 4506 1250 H Street, NW., Washington, DC.

STATUS: Open.

ACTION: Correction.

SUMMARY: In notice document, volume 66, number 23, page 8795, in the issue of Friday, February 2, 2001, make the following correction.

On page 8795, the room number was previously listed as Conference Room 4506. This should be changed to read Conference Room 4400.

CONTACT PERSON FOR MORE INFORMATION: Thomas J. Trabaucco, Director,

Office of External Affairs, (202) 942-1640.

Dated: February 2, 2001.
Elizabeth S. Woodruff,
Secretary to the Board, Federal Retirement Thrift Investment Board.

[FR Doc. 01-3233 Filed 2-2-01; 4:56 pm]

BILLING CODE 6760-01-M